DEPARTMENT OF TRANSPORTATION

Office of Secretary

Aviation Proceedings, Agreements Filed During the Week Ending January 21, 2000

The following Agreements were filed with the Department of Transportation under the provisions of 49 U.S.C. 412 and 414. Answers may be filed within 21 days after the filing of the application.

Docket Number: OST-2000-6802.

Date Filed: January 18, 2000.

Parties: Members of the International Air Transport Association.

Subject:

PTC23/PTC123 EUR-SEA 0087 dated 21 December 1999

Europe-South East Asia Resolutions r1-r29

PTC23 EUR-SEA 0089 dated 11 January 2000 Technical Correction

Minutes—PTC23 EUR-SEA 0090 dated 11 January 2000

Tables—PTC23 EUR-SEA FARES 0019 dated 11 January 2000

Intended effective date: 1 April 2000

Dorothy W. Walker,
Federal Register Liaison.

[FR Doc. 00-2364 Filed 2-2-00; 8:45 am]

BILLING CODE 4910-62-P